DEPARTMENT OF STATE

[Public Notice 7948]

30-Day Notice of Proposed Information Collection: DS-5506, Local U.S. Citizen Skills/Resources Survey

ACTION: Notice of request for public comment and submission to OMB of proposed collection of information.

SUMMARY: The Department of State has submitted the following information collection request to the Office of Management and Budget (OMB) for approval in accordance with the Paperwork Reduction Act of 1995.

• Title of Information Collection: Local U.S. Citizen Skills/Resources Survey.

• OMB Control Number: OMB No. 1405-0188.

• Type of Request: Revision.

• Originating Office: Bureau of Consular Affairs, Overseas Citizens Services (CA/OCS).

• Form Number: DS-5506.

• Respondents: United States Citizens.

• Estimated Number of Respondents: 2,400.

• Estimated Number of Responses: 2,400.

• Average Hours per Response: 15 minutes.

• Total Estimated Burden: 600 hours.

• Frequency: On Occasion.

• Obligation to Respond: Voluntary.

DATES: Submit comments to the Office of Management and Budget (OMB) for up to 30 days from July 10, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/L), U.S. Department of State, SA-29, 4th Floor, Washington, DC 20520 at Ask-OCS-L-Public-Inquiries@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Local U.S. Citizen Skills/Resources Survey is a systematic method of gathering information about skills and resources from U.S. citizens that will assist in improving the well-being of other U.S. citizens affected or potentially affected by a crisis.

Methodology

This information collection can be completed by the respondent electronically or manually. The information collection will be collected on-site, by mail, fax, and email.

Dated: June 27, 2012.
Michelle Bernier-Toth,
Managing Director, Bureau of Consular Affairs, Department of State.

[FR Doc. 2012-16850 Filed 7-9-12; 8:45 am]

BILLING CODE 4710-06-P